DEPARTMENT OF COMMERCE

National Oceanic and Atmospheric Administration

RIN 0648-XA341

Marine Mammals; File No. 15324

AGENCY: National Marine Fisheries Service (NMFS), National Oceanic and Atmospheric Administration (NOAA), Commerce.

ACTION: Notice; issuance of permit.

SUMMARY: Notice is hereby given that a permit has been issued to the Alaska Department of Fish and Game, Division of Wildlife Conservation, Juneau, AK, to conduct research on marine mammals.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

FOR FURTHER INFORMATION CONTACT: Tammy Adams or Laura Morse, (301) 713-2289.

SUPPLEMENTARY INFORMATION: On April 4, 2011, notice was published in the Federal Register (76 FR 18533) that a request for a permit to conduct research on marine mammals had been submitted by the above-named applicant. The requested permit has been issued under the authority of the Marine Mammal Protection Act of 1972, as amended (16 U.S.C. 1361 et seq.), and the regulations governing the taking and importing of marine mammals (50 CFR part 216).

The permit authorizes taking spotted (Phoca largha), ringed (Phoca hispida), bearded (Erignathus barbatus), and ribbon seals (Histriophoca fasciata) in the Bering, Chukchi, and Beaufort Seas of Alaska to monitor the status and health of all four species by analyzing samples from the subsistence harvest and by documenting movements and habitat use by tracking animals with satellite transmitters. The permit is valid for field studies from January 2012 through December 2016.

In compliance with the National Environmental Policy Act of 1969 (42 U.S.C. 4321 et seq.), a final determination has been made that the activity proposed is categorically excluded from the requirement to prepare an environmental assessment or environmental impact statement.

Dated: May 20, 2011.
Tammy C. Adams,
Acting Chief, Permits, Conservation and Education Division, Office of Protected Resources, National Marine Fisheries Service.

[FR Doc. 2011-12977 Filed 5-24-11; 8:45 am]

BILLING CODE 3510-22-P